DEPARTMENT OF HOUSING AND URBAN DEVELOPMENT

[Docket No. FR-4739-N-09]

Notice of Proposed Information Collection: Comment Request; Informed Consumer Choice Disclosure Notice

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments Due Date: May 28, 2002.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8001, Washington, DC 20410.

FOR FURTHER INFORMATION CONTACT: Vance T. Morris, Director, Office of Single Family Program Development, Department of Housing and Urban Development, 451 7th Street SW., Washington, DC 20410, telephone (202) 708-2121 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Informed Consumer Choice Disclosure Notice.

OMB Control Number, if applicable: 2502-0537.

Description of the need for the information and proposed rule: Under section 225(a) of the Departments of Veterans Affairs and Housing and Urban Development, and the Independent Agencies Appropriations Act of 1999, amended section 203(b)(2) to the National Housing Act states that lenders are required to disclose certain information to a prospective borrower who seeks a FHA-insured home mortgage. The lender is required to provide the borrower with a comparison of costs—the costs for the FHA-insured mortgage compared to the costs for other similar conventional mortgage products the lender provides and for which the borrower is qualified. The disclosure notice should also provide information about when the borrower's requirements to pay FHA mortgage insurance premiums would terminate.

Agency form number, if applicable: None.

Estimation of the total numbers of hours needed to prepare the information collection including number of respondents, frequency of response, and hours of response: The estimated number of hours needed to prepare the information collection is 4,500, the number of respondents is estimated to be 9,000 generating approximately 9,000 responses annually, the response is on occasion, and the amount of time needed per response is approximately 30 minutes.

Status of the proposed information collection: Extension of currently approved collection.

Authority: The Paperwork Reduction Act of 1995, 44 U.S.C., Chapter 35, as amended.

Dated: March 21, 2002.
John C. Weicher,
Assistant Secretary for Housing-Federal Housing Commissioner.

[FR Doc. 02-7546 Filed 3-28-02; 8:45 am]

BILLING CODE 4210-27-M